NUCLEAR REGULATORY COMMISSION

[Docket No. 40-09092; NRC-2013-0164]

AUC, LLC., Reno Creek Uranium In-Situ Recovery Project

AGENCY: Nuclear Regulatory Commission.

ACTION: License and record of decision; issuance.

SUMMARY: The U.S. Nuclear Regulatory Commission (NRC) has issued a license to AUC, LLC (AUC) for its Reno Creek Uranium In-Situ Recovery (ISR) Facility in Campbell County, Wyoming. Under conditions listed in the license, the Source and Byproduct Materials License SUA-1602 authorizes AUC to operate its facilities as proposed in its license application, as amended, and to possess uranium source and byproduct material at the Reno Creek ISR Facility. In addition, the NRC has published a record of decision (ROD) that supports the NRC's decision to approve AUC's license application for the Reno Creek ISR Facility and to issue the license.

DATES: February 27, 2017.

ADDRESSES: Please refer to Docket ID NRC-2013-0164 when contacting the NRC about the availability of information regarding this document. You may obtain publicly-available information related to this document using any of the following methods:

• Federal Rulemaking Web site: Go to http://www.regulations.gov and search for Docket ID NRC-2013-0164. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document. In addition, for the convenience of the reader, the ADAMS accession numbers are provided in a table in the section of this document entitled, SUPPLEMENTARY INFORMATION.

• NRC's PDR: You may examine and purchase copies of public documents at the NRC's PDR, Room O1-F21, One White Flint North, 11555 Rockville Pike, Rockville, Maryland 20852.

FOR FURTHER INFORMATION CONTACT: Don Lowman, Office of Nuclear Material Safety and Safeguards, U.S. Nuclear Regulatory Commission, Washington, DC 20555-0001; telephone: 301-415-5452; email: Donald.Lowman@nrc.gov.

SUPPLEMENTARY INFORMATION:

Part 40 of title 10 of the Code of Federal Regulations (10 CFR), authorizes the NRC to issue a license to AUC for its Reno Creek Uranium In-Situ Recovery (ISR) Facility in Campbell County, Wyoming. Under conditions in the license, the Source and Byproduct Materials License SUA-1602 authorizes AUC to operate its facilities as proposed in its license application, as amended, and to possess uranium source and byproduct material at the Reno Creek ISR Facility. The NRC's ROD that supports the decision to approve AUC's license application for the Reno Creek ISR Facility and to issue the license is available in ADAMS under Accession No. ML17011A195.

By letter dated October 3, 2012, AUC, LLC submitted a license application to the NRC for a Source and Byproduct Materials License for the in-situ extraction and recovery of uranium at its Reno Creek ISR Project in Campbell County, Wyoming. On November 30, 2012, the NRC staff acknowledged receipt of the application and noted that the application was placed in ADAMS) under Accession No. ML122890785. The NRC staff also noted that it could not commence its acceptance review until March 2013. The staff commenced the acceptance review in March 2013, and notified AUC on June 18, 2013, that the NRC staff had completed its acceptance review and found the application acceptable for detailed technical (safety) and environmental review. In addition to the application, the NRC staff held multiple public meetings with AUC to discuss various issues and submitted detailed requests for additional information to which AUC provided responses during the review process. The NRC's Safety Evaluation Report documenting its review of AUC's application was completed on September 30, 2016. The NRC issued its final environmental impact statement on December 16, 2016

In accordance with 10 CFR 2.390 of the NRC's “Rules of Practice,” the details with respect to this action, including the Safety Evaluation Report and accompanying documentation and license, are available online in the ADAMS Public Documents collection at http://www.nrc.gov/reading-rm/adams.html. From this site, you can access the NRC's Agencywide Document Access and Management System (ADAMS), which provides text and image files of the NRC's public documents.

The ADAMS accession numbers for the documents related to this notice are:

1 | Generic Environmental Impact Statement for In-Situ Leach Uranium Milling Facilities, May 2009 | ML091530075
2 | AUC, LLC's Application, October 3, 2012 | ML122890785
3 | NRC email informing AUC that License Application Added to ADAMS and Deferral of Acceptance Review, November 30, 2012 | ML12349A262
4 | NRC Request for Additional Information | ML13365A110
5 | Round 1—Response to Request for Additional Information, June 13, 2012 | ML14169A452
6 | NRC Results of Round 1 RAI Response Package, September 9, 2014 | ML14247A276
7 | AUC Revised RAI Response Package, December 23, 2014 | ML15002A077
8 | Safety Evaluation Report, September 30, 2016 | ML16237A141
9 | Environmental Impact Statement for the Reno Creek ISR Project in Campbell County, Wyoming, Supplement to the Generic Environmental Impact Statement for In-Situ Leach Uranium Milling Facilities, Draft Report for Public Comments, June 30, 2016 | ML16181A082
10 | NUREG-1910, Suppl. 6, Environmental Impact Statement for the Reno Creek ISR Project in Campbell County, Wyoming, Supplement to the Generic Environmental Impact Statement for In-Situ Leach Uranium Milling Facilities, Final Report, December 2016 | ML16342A973
11 | Source and Byproduct Materials License SUA-1602, February 16, 2017 | ML16364A219
12 | NRC Staff's Record of Decision, February 03, 2017 | ML17011A195
13 | Safety Evaluation Report, Revision 1, February 16, 2017 | ML16364A227

Dated at Rockville, Maryland, this 16th day of February 2017.
For the Nuclear Regulatory Commission.
Andrea Kock,
Deputy Director, Division of Decommissioning, Uranium Recovery and Waste Programs, Office of Nuclear Material Safety and Safeguards.

[FR Doc. 2017-03807 Filed 2-24-17; 8:45 am]

BILLING CODE 7590-01-P